DEPARTMENT OF THE INTERIOR

Bureau of Land Management

[CA-180-1430-01; CACA 8188]

Public Land Order No. 7524; Partial Revocation of Executive Order No. 4203; California

AGENCY: Bureau of Land Management, Interior.

ACTION: Public Land Order.

SUMMARY: This order partially revokes an Executive Order insofar as it affects 20 acres withdrawn for possible inclusion into the Tahoe National Forest. The land is no longer needed for the purpose for which it was withdrawn. This order makes the land available for exchange.

EFFECTIVE DATE: May 9, 2002.

FOR FURTHER INFORMATION CONTACT: Duane Marti, BLM California State Office, 2800 Cottage Way, Sacramento, California 95825-1886, 916-978-4675.

SUPPLEMENTARY INFORMATION: By virtue of the authority vested in the Secretary of the Interior by section 204 of the Federal Land Policy and Management Act of 1976, 43 U.S.C. 1714 (1994), it is ordered as follows:

1. Executive Order No. 4203, which withdrew lands for possible inclusion into national forests, is hereby revoked insofar as it affects the following described land:

Mount Diablo Meridian

T. 17 N., R. 10 E.,

Sec. 21, W½SE¼NE¼.

The area described contains 20 acres in Nevada County.

2. The above described land is hereby made available for exchange under Section 206 of the Federal Land Policy and Management Act of 1976, 43 U.S.C. 716 (1994).

Dated: April 23, 2002.
Rebecca W. Watson,
Assistant Secretary.

[FR Doc. 02-11576 Filed 5-8-02; 8:45 am]

BILLING CODE 4310-40-P